DEPARTMENT OF DEFENSE

Office of the Secretary

Notice of Funding Availability for Special Assistance to Local Educational Agencies (LEAs) in the Vicinity of a United States Service Academy

AGENCY: Department of Defense.

ACTION: Notice.

SUMMARY: This notice announces the availability of $5 million in assistance of Local Educational Agencies (LEAs). The Office of Economic Adjustment (OEA) is authorized by section 3310 of Pub. L. 110-28, to provide up to $5 million in assistance to LEAs. Awards of up to $1.5 million per Applicant may be provided under this Notice to assist LEAs in the vicinity of a United States Service Academy (Service Academy), primarily where the loss of local revenue base, due to Federal property not being taxable, constrains an applicant's operating expenses and the ability to maintain educational programs. Assistance may be provided to a LEA, or a State or local government on behalf of one or more LEAs, depending on the scope of the proposal. Funds provided under this Notice may not be used to replace or supplant Impact Aid assistance available from the Department of Defense (DoD) or the U.S. Department of Education (ED).

DATES: Proposals will be accepted through the close of business on August 31, 2007, or the date funds are no longer available for these purposes, whichever comes first.

SUPPLEMENTARY INFORMATION:

I. Funding Opportunity Description

OEA, a DOD Field Activity, is authorized by section 3310 of Pub. L. 110-28 to provide special assistance to LEAs. These funds are intended to assist LEAs in the vicinity of a Service Academy, primarily where the loss of local revenue base, due to Federal property not being taxable, constrains an applicant's operating expenses and the ability to maintain educational programs. Five million dollars is made available under this Notice.

II. Award Information

OEA is accepting proposals for grant awards, not to exceed $1.5 million per applicant. Proposals will be rated on content, responsiveness to this Notice, and budget. OEA will notify respondents within fifteen (15) days of receipt of a proposal whether their proposal qualifies to invite a grant application.

III. Eligibility Information

A LEA is defined as:

• A board of education or other legally constituted local school authority having administrative control and direction of free public education in a county, township, independent school district, or other school district; and

• any State agency that directly operates and maintains facilities for providing free public education.

Eligible applicants are LEAs, or a State or local government on behalf of one or more LEAs, in the vicinity of one of the following Service Academies:

• United States Military Academy at West Point (West Point, NY); United States Naval Academy (Annapolis, MD); United States Coast Guard Academy (New London, CT); United States Merchant Marine Academy (Kings Point, NY); or the United States Air Force Academy (Colorado Springs, CO).

For the purpose of this Notice, “LEAs in the vicinity of a United States Service Academy” means:

• A LEA where the total student enrollment includes school age dependants of Military, DOD civilian, and/or DOD contractor personnel employed on the Service Academy. Priority consideration will be given to LEAs where the school age dependants of Military, DOD civilian, and/or DOD contractor personnel employed on the Service Academy comprise at least three percent (3%) or 400, whichever is less, of the LEA's total student enrollment.

Eligible activities are limited to non-construction activities—for example, operational expenses (including salaries), conduct of planning studies and site assessments, and the development of financial plans.

IV. Proposal and Submission Information

Respondents are advised that proposals received in conformance with this Notice will be accepted and processed on a continuous basis to the extent funds remain available.

Each proposal submitted should include a cover or transmittal letter signed by the Authorizing Official on behalf of the Applicant. Text of the proposal shall consist of no more than 10 pages (single-sided) which must include:

• A summary of the problem or need the project will address;

• A profile of the LEA's student population that demonstrates compliance with the eligibility requirements of this Notice;

• A summary of Impact Aid assistance received from DOD and ED, and an explanation of how the requested assistance will neither replace nor supplant Impact Aid assistance;

• A description of how the respondent intends to carry out the work required to:

1. Resolve the problem or address the need; and

2. Benefit school age dependants of Military, DOD civilian, and/or DOD contractor personnel employed on the Service Academy;

• A proposed budget and accompanying explanation, demonstrating that not more than 50% of the proposed project funding will be from funds awarded under this Notice;

• Documentation that the Authorizing Official is authorized by the respondent to submit a proposal and subsequently apply for assistance under this Notice;

• A project schedule for completion of the work; and,

• A local point of contact.

Proposals may be provided to: Director, Office of Economic Adjustment, 400 Army Navy Drive, Suite 200, Arlington, VA 22202-4704, or submitted electronically to: gary.willis@wso.whs.mil.

V. Application Review Information

1. Selection Criteria—Upon validating the eligibility of the respondent to apply for assistance, OEA considers each of the following factors as a basis for inviting formal grant applications: content, overall conformance with this Notice and overall reasonableness of budget.

2. Review and Selection Process—All proposals will be reviewed on their individual merit by a panel of OEA staff, which may be augmented by other Federal or non-Federal technical experts (e.g. ED), as necessary. OEA will notify the respondent within fifteen (15) days of receipt of a proposal whether their proposal:

• Was successful and invite the successful respondent to submit a grant application. OEA will assign a Project Manager to advise and assist successful respondents in the completion of the grant application;

• Was unsuccessful and state the reasons why; or

• Remains under consideration pending the receipt of specific additional information.

VI. Award Administration Information

1. Award Notices—A successful applicant (Grantee) will receive a notice of award in the form of a grant agreement, signed by the Director, OEA (Grantor), on behalf of the Department of Defense. The grant agreement will be transmitted electronically, or if necessary, by U.S. Mail.

2. Administrative and National Policy Requirements—Awards under this Notice are subject to compliance with all applicable Federal, State, and local laws including the following: 32 CFR Part 33, “Uniform Administrative Requirements for Grants and Cooperative Agreements to State and Local Governments”; OMB Circulars A-87, “Cost Principles for State and Local Governments” and the revised A-133, “Audits of States, Local Governments and Non-Profit Organizations”; 32 CFR Part 25, “Government-wide Debarment and Suspension (Non-procurement)”; 32 CFR Part 26, “Drug-free Workplace”; and 32 CFR Part 28, “New Restrictions on Lobbying (Grants).”

3. Reporting—OEA requires interim performance reports and one final performance report for any grant. The performance reports will contain information on the following:

• A comparison of actual accomplishments to the objectives established for the period;

• Reasons for slippage if established objectives were not met;

• Additional pertinent information when appropriate;

• A comparison of actual and projected grant expenditures; and,

• The amount of Federal cash on hand at the beginning and end of the reporting period.

The final performance report must contain a summary of activities for the entire grant period. All required deliverables should be submitted with the final performance report. The final SF 269A, “Financial Status Report,” must be submitted to OEA within 90 days after the end date of the grant. Any grant funds actually advanced and not needed for grant purposes shall be returned immediately to OEA.

OEA will provide a schedule for reporting periods and report due dates in the grant agreement.

VII. Agency Contact

For further information, contact: Gary Willis, Project Manager, Office of Economic Adjustment, telephone: (703) 604-5164, e-mail: gary.willis@wso.whs.mil or regular mail at 400 Army Navy Drive, Suite 200, Arlington, VA 22202-4704.

Dated: July 23, 2007.
L.M. Bynum,
Alternate OSD Federal Register Liaison Officer, DoD.

[FR Doc. E7-14520 Filed 7-26-07; 8:45 am]

BILLING CODE 5001-06-P